DEPARTMENT OF THE TREASURY

United States Mint

Establish Prices for United States Mint Numismatic Products

AGENCY: United States Mint, Department of the Treasury.

ACTION: Notice.

SUMMARY: The United States Mint is announcing new pricing for the following new United States Mint numismatic products in accordance with the table below:

SKU | Product | Current price | New price
22WBA | 2022 American Women Quarters 100-Coin Bag™—Maya Angelou (P) | n/a | $40.00
22WBB | 2022 American Women Quarters 100-Coin Bag™—Maya Angelou (D) | n/a | 40.00
22WBC | 2022 American Women Quarters 100-Coin Bag™—Sally Ride (P) | n/a | 40.00
22WBD | 2022 American Women Quarters 100-Coin Bag™—Sally Ride (D) | n/a | 40.00
22WBE | 2022 American Women Quarters 100-Coin Bag™—Wilma Mankiller (P) | n/a | 40.00
22WBF | 2022 American Women Quarters 100-Coin Bag™—Wilma Mankiller (D) | n/a | 40.00
22WBG | 2022 American Women Quarters 100-Coin Bag™—Nina Otero-Warren (P) | n/a | 40.00
22WBH | 2022 American Women Quarters 100-Coin Bag™—Nina Otero-Warren (D) | n/a | 40.00
22WBJ | 2022 American Women Quarters 100-Coin Bag™—Anna May Wong (P) | n/a | 40.00
22WBK | 2022 American Women Quarters 100-Coin Bag™—Anna May Wong (D) | n/a | 40.00
22WRA | 2022 American Women Quarters 2-Roll Set™—Maya Angelou (P&D) | n/a | 36.00
22WRB | 2022 American Women Quarters 3-Roll Set™—Maya Angelou (P&D&S) | n/a | 54.00
22WRC | 2022 American Women Quarters 2-Roll Set™—Sally Ride (P&D) | n/a | 36.00
22WRD | 2022 American Women Quarters 3-Roll Set™—Sally Ride (P&D&S) | n/a | 54.00
22WRE | 2022 American Women Quarters 2-Roll Set™—Wilma Mankiller (P&D) | n/a | 36.00
22WRF | 2022 American Women Quarters 3-Roll Set™—Wilma Mankiller (P&D&S) | n/a | 54.00
22WRG | 2022 American Women Quarters 2-Roll Set™—Nina Otero-Warren (P&D) | n/a | 36.00
22WRH | 2022 American Women Quarters 3-Roll Set™—Nina Otero-Warren (P&D&S) | n/a | 54.00
22WRJ | 2022 American Women Quarters 2-Roll Set™—Anna May Wong (P&D) | n/a | 36.00
22WRK | 2022 American Women Quarters 3-Roll Set™—Anna May Wong (P&D&S) | n/a | 54.00
22W01 | 2022 American Women Quarters Ornament™—Maya Angelou | n/a | 30.95
22W02 | 2022 American Women Quarters Ornament™—Sally Ride | n/a | 30.95
22W03 | 2022 American Women Quarters Ornament™—Wilma Mankiller | n/a | 30.95
22W04 | 2022 American Women Quarters Ornament™—Nina Otero-Warren | n/a | 30.95
22W05 | 2022 American Women Quarters Ornament™—Anna May Wong | n/a | 30.95
22WP | 2022 American Woman Quarters Proof Set™ | n/a | 21.00
22WS | 2022 American Woman Quarters Silver Proof Set™ | n/a | 73.00

For Further Information About Rolls & Bags, Ornaments Contact: Angela Hicks, Marketing Specialist, Sales and Marketing—202-354-7750.

For Further Information About Proof Sets Contact: Anne Janeski, Marketing Specialist, Sales and Marketing—202-306-9666; United States Mint; 801 9th Street NW, Washington, DC 20220.

Authority: 31 U.S.C. 5111, 5112, 5132, & 9701.

Eric Anderson,
Executive Secretary, United States Mint.

[FR Doc. 2022-02155 Filed 2-1-22; 8:45 am]

BILLING CODE P